DEPARTMENT OF HEALTH AND HUMAN SERVICES

Health Resources and Services Administration

National Advisory Council on Migrant Health; Notice of Meeting

In accordance with section 10(a)(2) of the Federal Advisory Committee Act (Pub. L. 92-463), notice is hereby given of the following meetings:

Name: National Advisory Council on Migrant Health.

Dates and Times: July 30, 2007, 8:30 a.m. to 2 p.m. July 30, 2007, 3 p.m. to 7 p.m. (site visit). July 31, 2007, 8:30 a.m. to 5 p.m.

Place: Four Points Hotel by Sheraton, 3200 Boardwalk, Ann Arbor, Michigan 48108, Telephone: (734) 996-0600, Fax: (734) 996-8136.

Status: The meeting will be open to the public.

Purpose: The purpose of the meeting is to discuss services and issues related to the health of migrant and seasonal farmworkers and their families and formulate recommendations to the Secretary of Health and Human Services. There will also be a site visit to a local migrant seasonal farmworker site.

Agenda: The agenda includes an overview of the Council's general business activities. The Council will also hear presentations from experts on farmworker issues, including the status of farmworkers health at the local and national level.

In addition, the Council will be going on a site visit to speak to farmworkers at their worksite. The site visit is scheduled for July 30, 2007, from 3 p.m. to 7 p.m. at Potato Farm, Inc., 4800 Esch Road, Manchester, Michigan 48158; telephone (734) 428-8900, fax 734-428-7123.

Agenda items are subject to change as priorities indicate.

For Further Information Contact: Anyone requiring information regarding the Council should contact Gladys Cate, Office of Minority and Special Populations, Bureau of Primary Health Care, Health Resources and Services Administration, 5600 Fishers Lane, Maryland 20857; telephone (301) 594-0367.

Dated: July 3, 2007.
Alexandra Huttinger,
Acting Director, Division of Policy Review and Coordination.

[FR Doc. E7-13345 Filed 7-9-07; 8:45 am]

BILLING CODE 4165-15-P